SMALL BUSINESS ADMINISTRATION

SBA Council on Underserved Communities Meeting

AGENCY: U.S. Small Business Administration (SBA).

ACTION: Notice of Federal advisory committee meeting.

SUMMARY: The SBA is issuing this notice to announce the location, date, time, and agenda for the fourth meeting of the SBA Council on Underserved Communities. The meeting will be in person for Council members and streamed live to the public.

DATES: The meeting will be held on Friday, June 9th, 2023, from 9 a.m. to 12:30 p.m. Eastern Time.

ADDRESSES: The Council on Underserved Communities will meet at TechTown—440 Burroughs St., Detroit, MI 48202 and will be live streamed on Zoom for the public. Registration Link Here: https://www.zoomgov.com/webinar/register/WN_ZHcCxD0RTv-MOMMer0D8Tg.

FOR FURTHER INFORMATION CONTACT: The meeting will be live streamed to the public, and anyone wishing to submit questions to the SBA Council on Underserved Communities can do so by submitting them via email to underservedcouncil@sba.gov.

Additionally, if you need accommodations because of a disability or require additional information, please contact Tomas Kloosterman, SBA, Office of the Administrator, 409 Third Street SW, Washington, DC 20416, 202-941-8082 or Tomas.Kloosterman@sba.gov.

SUPPLEMENTARY INFORMATION: Pursuant to section 10(a)(2) of the Federal Advisory Committee Act (5 U.S.C., Appendix 2), SBA announces the meeting of the SBA Council on Underserved Communities (the “Council”). The Council is tasked with providing advice, ideas and opinions on SBA programs and services and issues of interest to small businesses in underserved communities. For more information, please visit http://www.sba.gov/cuc.

The purpose of the meeting is to provide the Council with information on SBA's efforts to support small businesses in underserved communities, as well as provide an opportunity for the Council to discuss its goals for the coming months. The Council will provide insights based on information they have heard from their communities and discuss areas of interest for further research and recommendation development.

Dated: May 17, 2022.
Andrienne Johnson,
SBA Committee Management Officer.

[FR Doc. 2023-10920 Filed 5-22-23; 8:45 am]

BILLING CODE P